COMMODITY FUTURES TRADING COMMISSION

RIN 3038-ZA08

Average Price Calculations by Futures Commission Merchants

Correction

In notice document 00-1907 beginning on page 4807 in the issue of Tuesday, February 1, 2000, make the following correction:

On page 4808, in the second column, in paragraph 5., in the fourth line remove “maintains them in accounts”.

[FR Doc. C0-1907 Filed 3-1-00; 8:45 am]

BILLING CODE 1505-01-D

DEPARTMENT OF EDUCATION

List of Correspondence-Office of Special Education and Rehabilitative Services

Correction

In notice document 00-4258, beginning on page 9178, in the issue of Wednesday, February 23, 2000, make the following correction.

On page 9179, in the second column, in the second full paragraph, “ Letter dated February 5, 1999 to U.S. Senator Richard J.” should be added before “Durbin”.

[FR Doc. C0-4258 Filed 3-1-00; 8:45 am]

BILLING CODE 1505-01-D

SECURITIES AND EXCHANGE COMMISSION

[Release No. 34-42396; File No. SR-CBOE-99-40]

Self-Regulatory Organizations; Notice of Filing of Proposed Rule Change by the Chicago Board Options Exchange, Inc., Relating to the Operation of the Retail Automatic Execution System

Correction

In notice document 00-3370, beginning on page 7404, in the issue of Monday, February 14, 2000, make the following corrections:

1. On page 7404, in the second column, the docket number is corrected to read as set forth above.

2. On page 7407, in the first column, in the ninth line from the bottom, “[insert date 21 days from date of publication]” should read “March 6, 2000”.

[FR Doc. C9-3370 Filed 3-1-00; 8:45 am]

BILLING CODE 1505-01-D

DEPARTMENT OF TRANSPORTATION

Federal Aviation Administration

14 CFR Part 71

[Airspace Docket No. 99-ASO-23]

Amendment of Class E Airspace; London, KY

Correction

In rule document 00-2773 beginning on page 5999 in the issue of Tuesday, February 8, 2000, make the following correction:

§71.1 [Corrected]

On page 6000, in §71.1, in the second column, in the ninth line “with an” should read “within an”.

[FR Doc. C0-2773 Filed 3-1-00; 8:45 am]

BILLING CODE 1505-01-D